NATIONAL CREDIT UNION ADMINISTRATION

Request for Comment Regarding National Credit Union Administration Draft 2017-2021 Strategic Plan

AGENCY: National Credit Union Administration (NCUA).

ACTION: Notice and Request for comment.

SUMMARY: On January 27, 2016 the Federal Register published a Notice and Request for Comment for the NCUA Draft 2017-2021 Strategic Plan (Citation 81 FR 4679). This Federal Register Notice repairs a hyperlink within the notice. The NCUA Board (Board) is requesting comment on its 2017-2021 Draft Strategic Plan. The NCUA Draft Strategic Plan 2017-2021 summarizes our analysis of the internal and external environment impacting NCUA; evaluates NCUA programs and risks; and provides goals and objectives for the next five years. While the Board welcomes all comments from the public and stakeholders, it specifically invites comments and input on the proposed goals and objectives of the strategic plan.

DATES: Comments must be received on or before April 4, 2016 to be assured of consideration.

ADDRESSES: You may submit comments by any of the following methods (Please send comments by one method only):

• NCUA Web site: https://www.ncua.gov/about/pages/board-comments.aspx. Follow the instructions for submitting comments.

• Email: Address to boardcomments@ncua.gov. Include “[Your name]—Comments on NCUA 2017-2021 Draft Strategic Plan” in the email subject line.

• Fax: (703) 518-6319. Include your name and the following subject line: “Comments on NCUA 2017-2021 Draft Strategic Plan.”

• Mail: Address to Gerard Poliquin, Secretary of the Board, National Credit Union Administration, 1775 Duke Street, Alexandria, Virginia 22314-3428.

• Hand Delivery/Courier: Same as mail address.

Public Inspection: You can view all public comments on NCUA's Web site at https://www.ncua.gov/about/pages/board-comments.aspx as submitted, except for those we cannot post for technical reasons. NCUA will not edit or remove any identifying or contact information from the public comments submitted. You may inspect paper copies of comments at NCUA's headquarters at 1775 Duke Street, Alexandria, Virginia 22314, by appointment weekdays between 9 a.m. and 3 p.m. To make an appointment, call (703) 518-6570 or send an email to boardcomments@ncua.gov.

FOR FURTHER INFORMATION CONTACT: Melissa Lowden, Performance Analyst, National Credit Union Administration, 1775 Duke Street, Alexandria, Virginia 22314-3428 or telephone: (703) 518-1182.

Authority: 5 U.S.C. 306.

SUPPLEMENTARY INFORMATION: The Government Performance and Results Act of 1993 (GPRA) requires agencies to prepare strategic plans, annual performance plans and annual performance reports with measurable performance indicators to address the policy, budgeting and oversight needs of both Congress and agency leaders, partners/stakeholders, and program managers. In 2010, Congress passed the GPRA Modernization Act of 2010, which further requires a leadership-driven governance model with emphasis on quarterly reviews and transparency. The GPRA Modernization Act requires agencies to set priority goals linked to longer-term Agency strategic goals. Part 6 of Office of Management and Budget (OMB) Circular A-11 provides additional guidance and requirements for federal agencies to implement these laws.

The NCUA Draft Strategic Plan 2017-2021 is issued pursuant to the GPRA, the GPRA Modernization Act, and OMB Circular A-11.

It highlights the agency's three strategic goals and supporting strategic objectives, which reflect the outcome or greater impact of the broader strategic goals. The three strategic goals for 2017-2021 are to:

• Ensure a Safe and Sound Credit Union System.

• Promote Consumer Protection and Financial Literacy.

• Cultivate an Inclusive, Collaborative Workplace at NCUA that Maximizes Productivity and Enhances Impact.

On January 27, 2016 the Federal Register published a Notice and Request for Comment for the NCUA Draft 2017-2021 Strategic Plan (Citation 81 FR 4679). This Federal Register Notice repairs a hyperlink within the notice.

The draft NCUA Draft Strategic Plan 2017-2021 is available at the following Web address: https://www.ncua.gov/About/Documents/Agenda%20Items/AG20160121Item2b.pdf.

By the National Credit Union Administration Board on January 21, 2016.
Gerard Poliquin,
Secretary of the Board.

[FR Doc. 2016-01777 Filed 2-1-16; 8:45 am]

BILLING CODE P